DEPARTMENT OF HEALTH AND HUMAN SERVICES

Food and Drug Administration

[Docket No. FDA-2008-N-0227]

Agency Information Collection Activities; Submission for Office of Management and Budget Review; Comment Request; Medical Device Labeling Regulations

AGENCY: Food and Drug Administration, HHS.

ACTION: Notice.

SUMMARY: The Food and Drug Administration (FDA) is announcing that a proposed collection of information has been submitted to the Office of Management and Budget (OMB) for review and clearance under the Paperwork Reduction Act of 1995.

DATES: Fax written comments on the collection of information by July 28, 2008.

ADDRESSES: To ensure that comments on the information collection are received, OMB recommends that written comments be faxed to the Office of Information and Regulatory Affairs, OMB, Attn: FDA Desk Officer, FAX: 202-395-6974, or e-mailed to baguilar@omb.eop.gov. All comments should be identified with the OMB control number 0910-0485. Also include the FDA docket number found in brackets in the heading of this document.

FOR FURTHER INFORMATION CONTACT: Denver Presley, Jr., Office of the Chief Information Officer (HFA-250), Food and Drug Administration, 5600 Fishers Lane, Rockville, MD 20857, 301-827-1472.

SUPPLEMENTARY INFORMATION: In compliance with 44 U.S.C. 3507, FDA has submitted the following proposed collection of information to OMB for review and clearance.

Medical Device Labeling Regulations—(OMB Control Number 0910-0485)—Extension

Section 502 of the Federal Food, Drug, and Cosmetic Act (the act) (21 U.S.C. 352), among other things, establishes requirements for the label or labeling of a medical device so that it is not misbranded and subject to a regulatory action. Certain provisions under section 502 of the act require manufacturers, importers, and distributors of medical devices to disclose information about themselves or the devices, on the labels or labeling for the devices. Section 502(b) of the act requires that for packaged devices, the label must bear the name and place of business of the manufacturer, packer, or distributor as well as an accurate statement of the quantity of the contents. Section 502(f) of the act requires that the labeling for a device must contain adequate directions for use. FDA may however, grant an exemption, if the agency determines that the adequate directions for use labeling requirements are not necessary for the particular case, as it relates to protection of the public health.

FDA regulations under parts 800, 801, and 809 (21 CFR parts 800, 801, and 809) require disclosure of specific information by manufacturers, importers, and distributors of medical devices about themselves or the devices, on the label or labeling for the devices to health professionals and consumers. FDA issued these regulations under the authority of sections 201, 301, 502, and 701 of the act (21 U.S.C. 321, 331, 352, and 371). Most of the regulations under parts 800, 801, and 809 are derived from requirements of section 502 of the act, which provides in part, that a device shall be misbranded if among other things, its label or labeling fails to bear certain required information concerning the device, is false or misleading in any particular way, or fails to contain adequate directions for use.

Reporting Burden

Sections 800.10(a)(3) and 800.12(c) require that the label for contact lens cleaning solutions bear a prominent statement alerting consumers of the tamper-resistant feature. Further, § 800.12 requires that packaged contact lens cleaning solutions contain a tamper-resistant feature, to prevent malicious adulteration.

Section 800.10(b)(2) requires that the labeling for liquid ophthalmic preparations packed in multiple-dose containers provide information on the duration of use and the necessary warning information to afford adequate protection from contamination during use.

Section 801.1 requires that the label for a device in package form, contain the name and place of business of the manufacturer, packer, or distributor.

Section 801.5 requires that labeling for a device include information on intended use as defined under § 801.4 and provide adequate directions to assure safe use by the lay consumers.

Section 801.61 requires that the principal display panel of an over-the-counter (OTC) device in package form must bear a statement of the identity of the device. The statement of identity of the device must include the common name of the device followed by an accurate statement of the principal intended actions of the device.

Section 801.62 requires that the label for an OTC device in package form, must bear a statement of declaration of the net quantity of contents. The label must express the net quantity in terms of weight, measure, numerical count, or a combination of numerical count and weight, measure, or size.

Section 801.109 establishes labeling requirements for prescription devices, in which the label for the device must describe the application or use of the device, and contain a cautionary statement restricting the device for sale by, or on the order of an appropriate professional.

For prescription by a licensed practitioner, § 801.110 establishes labeling requirements for a prescription device delivered to the ultimate purchaser or user.

The device must be accompanied by labeling bearing the name and address of the licensed practitioner, directions for use, and cautionary statements if any, provided by the order.

Section 801.150(e) requires a written agreement between firms involved when a non-sterile device is assembled or packaged with labeling that identifies the final finished device as sterile, for which the device is ultimately introduced into interstate commerce to an establishment or contract manufacturer to be sterilized. When a written agreement complies with the requirements under § 801.150(e), FDA takes no regulatory action against the device as being misbranded or adulterated. In addition, § 801.150(e) requires that each pallet, carton, or other designated unit, be conspicuously marked to show its non-sterile nature when introduced into interstate commerce, and while being held prior to sterilization.

Section 801.405(b)(1) provides for labeling requirements for articles, including repair kits, re-liners, pads, and cushions, intended for use in temporary repairs and refitting of dentures for lay persons. Section 801.405(b)(1) also requires that the labeling contain the word “emergency” preceding and modifying each indication-for-use statement for denture repair kits and the word “temporary” preceding and modifying each indication-for-use statement for re-liners, pads, and cushions.

Section 801.405(c) provides for labeling requirements that contain essentially the same information described under § 801.405(b)(1). The information is intended to enable a lay person to understand the limitations of using OTC denture repair kits, and denture re-liners, pads, and cushions.

Section 801.420(c)(1) requires that manufacturers or distributors of hearing aids develop a user instructional brochure to be provided by the dispenser of the hearing aid to prospective users. The brochure must contain detailed information on the use and maintenance of the hearing aid.

Section 801.420(c)(4) establishes requirements that the user instructional brochure or separate labeling, provide for technical data elements useful for selecting, fitting, and checking the performance of a hearing aid. In addition, § 801.420(c)(4) provides for testing requirements to determine that the required data elements must be conducted in accordance with the American National Standards Institute's (ANSI) “Specification of Hearing Aid Characteristics,” ANSI S3.22-1996 (ASA 70-1996); (Revision of ANSI S3.22-1987), which is incorporated by reference in accordance with 5 U.S.C. 552(a) and 1 CFR part 51.

Section 801.421(b) establishes requirement for the hearing aid dispenser to provide prospective users with a copy of the user instructional brochure along with an opportunity to review comments, either orally or by the predominant method of communication used during the sale.

Section 801.421(c) establishes requirements for the hearing aid dispenser to provide a copy of the user instructional brochure to the prospective purchaser of any hearing aid upon request or, if the brochure is unavailable, provide the name and address of the manufacturer or distributor from which it may be obtained.

Section 801.430(d) establishes labeling requirements for menstrual tampons to provide information on signs, risk factors, and ways to reduce the risk of Toxic Shock Syndrome (TSS).

Section 801.430(e)(2) requires menstrual tampon package labels to provide information on the absorbency term based on testing required under § 801.430(f) and an explanation of selecting absorbencies that reduce the risk of contracting TSS.

Section 801.430(f) establishes requirements that manufacturers of menstrual tampons devise and follow an ongoing sampling plan for measuring the absorbency of menstrual tampons. Further, manufacturers must use the method and testing parameters described under this section.

Section 801.435(b), (c), and (h), establishes requirements for condom labeling to bear an expiration date that is supported by testing that demonstrates the integrity of three random lots of the product.

Section 809.10(a) and (b) establishes requirements that a label for an in vitro diagnostic device and the accompanying labeling (package insert), must contain information identifying its intended use, instructions for use and lot or control number, and source.

Section 809.10(d)(1) provides that the labeling requirements for general purpose laboratory reagents may be exempt from the requirements of § 809.10(a) and (b), if the labeling contains information identifying its intended use, instructions for use, lot or control number, and source.

Section 809.10(e) provides that the labeling for “Analytic Specific Reagents” (ASRs) must provide information identifying the quantity or proportion or each reagent ingredient, instructions for use, lot or control number, and source.

Section 809.10(f) provides that, the labeling for OTC test sample collection systems for drugs of abuse must include information on the intended use, specimen collection instructions, identification system, and information about use of the test results. In addition, § 809.10(f) requires that this information be in a language appropriate for the intended users.

Section 809.30(d) requires that advertising and promotional materials for ASRs include the identity and purity of the ASR and the identity of the analyte.

Recordkeeping Burden

Section 801.150(a)(2) establishes recordkeeping requirements for re-processors, re-labelers, or re-packagers to retain a copy of the agreement containing the specifications for the processing, labeling, or repacking of the device for 2 years after the shipment or delivery of the device. Section 801.150(a)(2) also requires that the subject respondents make copies of this agreement available for inspection at any reasonable hour to any officer or employee of the Department of Health and Human Services (DHHS), upon their request.

Section 801.421(d) establishes requirements for hearing aid dispensers to retain copies of all physician statements or any waivers of medical evaluation for 3 years after dispensing the hearing aid.

Section 801.410(e) requires copies of invoices, shipping documents, and records of sale or distribution of all impact resistant lenses, including finished eyeglasses and sunglasses, be maintained for 3 years by the retailer and made available upon request by any officer or employee of the FDA or by any other officer or employee acting on behalf of the Secretary of Health and Human Services.

Section 801.410(f) requires that the results of impact tests and description of the test method and apparatus be retained for a period of 3 years.

Section 801.421(d) requires hearing aid dispensers to retain a copy of any written statement from a physician required under § 801.421(a)(1), or any written statement waiving medical evaluation required under § 801.421(a)(2)(iii) for 3 years after the dispensing the hearing aid.

Section 801.435(g) requires latex condom manufacturers to document and provide, upon request, an appropriate justification for the application of the testing data from one product on any variation of that product to support expiration dating in the user labeling.

In the Federal Register of April 23, 2008 (73 FR 21959), FDA published a 60-day notice requesting public comment on the information collection provisions. No comments were received.

Table 1.—Estimated Annual Reporting Burden¹
21 CFR Section | No. of Respondents | Annual Frequency per Response | Total Annual Responses | Hours per Response | Total Hours
800.10(a)(3) and 800.12(c) | 4 | 10 | 40 | 1 | 40
800.10(b)(2) | 4 | 10 | 40 | 40 | 1,600
801.1 | 30,000 | 3.5 | 105,000 | 0.1 | 10,500
801.5 | 5,000 | 3.5 | 17,500 | 22.35 | 391,125
801.61 | 5,000 | 3.5 | 17,500 | 1 | 17,500
801.62 | 1,000 | 5 | 5,000 | 1 | 5,000
801.109 | 18,000 | 3.5 | 63,000 | 17.77 | 1,119,510
801.110 | 10,000 | 50 | 500,000 | 0.25 | 125,000
801.150(e) | 2 | 1 | 2 | 0.50 | 1
801.405(b)(1) and (c) | 40 | 1 | 40 | 4 | 160
801.420(c)(1) | 275 | 5 | 1,375 | 40 | 55,000
801.420(c)(4) | 275 | 5 | 1,375 | 80 | 110,000
801.421(b) | 10,000 | 160 | 1,600,000 | 0.30 | 480,000
801.421(c) | 10,000 | 5 | 50,000 | 0.17 | 8,500
801.430(d) and (e)(2) | 8 | 5 | 40 | 2 | 80
801.430(f) | 8 | 5 | 40 | 80 | 3,200
801.435(b), (c), and (h) | 135 | 1 | 135 | 96 | 12,960
809.10(a) and (b) | 1,700 | 6 | 10,200 | 80 | 816,000
809.10(d)(1) | 300 | 2 | 600 | 40 | 24,000
809.10(e) | 300 | 25 | 7,500 | 1 | 7,500
809.10(f) | 20 | 1 | 20 | 100 | 2,000
809.30(d) | 300 | 25 | 7,500 | 1 | 7,500
Total | 3,197,416
¹ There are no capital costs or operating and maintenance costs associated with this information collection.

Table 2.—Estimated Annual Recordkeeping Burden¹
21 CFR Section | No. of Recordkeepers | Annual Frequency per Recordkeeping | Total Annual Records | Hours per Record | Total Hours
801.150(a)(2) | 57 | 1 | 57 | 0.50 | 28
801.410(e) and (f) | 30 | 924,100 | 27,723,000 | .0008 | 22,178
801.421(d) | 10,000 | 160 | 1,600,000 | 0.25 | 400,000
801.435(g) | 4 | 3 | 12 | 40 | 480
Total Hours | 422,686
1. There are no capital costs or operating and maintenance costs associated with this information collection.

This regulation also refers to previously approved collections of information found in FDA regulations. The collections of information under §§ 800.12(d) and 801.437(i) have been approved under OMB control number 0910-0183; the collections of information under § 800.12(e) have been approved under OMB control number 0910-0231; and the collections of information under § 801.435(g) have been approved under OMB control number 0910-0073.

Further, FDA concludes that labeling statements under §§ 801.63; 801.405(b)(2) and (b)(3); 801.420(c)(2) and (c)(3); 801.430(c) and(e)(1); 801.433; 801.437(d) through (g); 809.30(d)(2), (d)(3), and (e) do not constitute a “collection of information” under the PRA. Rather, these labeling statements are “public disclosure” of information originally supplied by the Federal Government to the recipient for the purpose of disclosure to the public” (5 CFR 1320.3(c)(2)).

Reporting

These estimates are based on FDA's registration and listing database for medical device establishments, agency communications with industry, and FDA's knowledge of, and experience with device labeling.

Recordkeeping

These estimates are based on FDA's registration and listing database for medical device establishments, agency communications with industry, and FDA's knowledge of and experience with device labeling. In addition, the Vision Council of America provided the growth rate used to estimate the burden under § 801.410(e) and (f).

FDA is correcting its recordkeeping burden estimate for § 801.410(e) and (f). In the Federal Register of April 23, 2008, the recordkeeping burden estimate in Table 2 was overestimated as 11,935,028 hours. The corrected recordkeeping burden estimate for this proposed collection is 422,686 hours. The correction for the recordkeeping burden estimate was necessary due to two errors. First, FDA incorrectly gave an estimate of 0.25 hours per recordkeeper for § 801.410(e) and (f). The corrected estimate is 0.0008 hours per recordkeeper. Secondly, FDA inadvertently duplicated the recordkeeping burden for these sections.

This regulation also refers to previously approved collections of information found in FDA regulations. The collections of information under §§ 800.12(d) and 801.437(i) have been approved under OMB control number 0910-0183; and the collections of information under § 800.12(e) have been approved under OMB control number 0910-0231.

The information collection requirements under §§ 801.22, 801.63, 801.405(b)(2) and (b)(3), 801.420(c)(2) and (c)(3), 801.430(c) and (e)(1), 801.433, 801.437(d) through (g); 809.30(d)(2), (d)(3), and (e) are not considered information collection because the public information is originally supplied by the Federal Government to the recipient for the purpose of disclosure to the public (5 CFR 1320.3(c)(2)).

We have not estimated a burden for information that is disclosed to third parties, because it is a “usual and customary” part of a medical device manufacturer, distributor, or importer's normal business activities. Nor have we estimated a burden for time that is spent designing labels to improve the format or presentation.

Dated: June 24, 2008.
Jeffrey Shuren,
Associate Commissioner for Policy and Planning.

[FR Doc. E8-14658 Filed 6-26-08; 8:45 am]

BILLING CODE 4160-01-S